DEPARTMENT OF TRANSPORTATION

National Highway Traffic Safety Administration

[DOT Docket No. NHTSA-2011-0045]

Paperwork Reduction Act of 1995

AGENCY: National Highway Traffic Safety Administration (NHTSA), Department of Transportation (DOT).

ACTION: Request for public comment on proposed collection of information.

SUMMARY: In compliance with the Paperwork Reduction Act of 1995 (PRA) (44 U.S.C. 3501 et seq.), on March 30, 2011 (76 FR 17746) the agency published a 60-day notice in the Federal Register soliciting public comment on the proposed information collection abstracted below.

In further compliance with the PRA, the agency now publishes this second notice announcing the submission of its proposed collection to the Office of Management and Budget (OMB) for review and notifying the public about how to submit comments on the proposed collection to OMB during the 30-day comment period.

DATES: Comments must be submitted on or before February 16, 2012.

ADDRESSES: Comments must refer to the docket notice numbers cited at the beginning of this notice and be submitted to Docket Management, Room PL-401, 400 Seventh Street SW., Washington, DC 20590. Please identify the proposed collection of information for which a comment is provided, by referencing its OMB clearance Number. It is requested, but not required, that 2 copies of the comment be provided. The Docket Section is open on weekdays from 10 a.m. to 5 p.m.

FOR FURTHER INFORMATION CONTACT: Ann Burton, NHTSA 1200 New Jersey Avenue SE., W46-492, NTI-200, Washington, DC 20590. Ms. Burton's telephone number is (202) 366-2685. Please identify the relevant collection of information by referring to its OMB Control Number.

SUPPLEMENTARY INFORMATION: Under the Paperwork Reduction Act of 1995, before an agency submits a proposed collection of information to OMB for approval, it must first publish a document in the Federal Register providing a 60-day public comment period and otherwise consult with members of the public and affected agencies concerning each proposed collection of information. The OMB has promulgated regulations describing what must be included in such a document. Under OMB's regulation (at 5 CFR 1320.8(d)), an agency must ask for public comment on the following:

i. Whether the proposed collection of information is necessary for the proper performance of the functions of the agency, including whether the information will have practical utility;

ii. The accuracy of the agency's estimate of the burden of the proposed collection of information, including the validity of the methodology and assumptions used;

iii. How to enhance the quality, utility, and clarity of the information to be collected;

iv. How to minimize the burden of the collection of information on those who are to respond, including the use of appropriate automated, electronic, mechanical, or other technological collection techniques or other forms of information technology, e.g. permitting electronic submission of responses.

In compliance with these requirements, NHTSA asks for public comments on the following proposed collections of information:

(1) Title: 23 CFR, 1200.10(d), Uniform Safety Program Cost Summary Form for Highway Safety Plan.

OMB Number: 2127-0003.

Type of Request: Extension of a currently approved collection.

Affected Public: For the Highway Cost Summary, the public is 50 States, District of Columbia, Puerto Rico, American Samoa, Guam, Northern Marianas, the Virgin Islands and Bureau of Indian Affairs.

Abstract: Each State shall have a highway safety program approved by the Secretary, designed to reduce traffic accidents and deaths, injuries, and property damage resulting there from. Such program shall be in accordance with uniform guidelines promulgated by the Secretary to improve driver performance, and to improve pedestrian performance, motorcycle safety and bicycle safety. Under this program, States submit the Highway Safety Program and other documentation explaining how they intend to use the grant funds. In order to account for funds expended under these priority areas and other program areas, States are required to submit a Program Cost Summary. The Program Cost Summary is completed to reflect the State's proposed Allocation of funds (including carry-forward funds) by program area, based on the projects and activities identified in the Highway Safety Plan.

Estimated Annual Burden: 570.

Estimated Number of Respondents: 57.

(2) Title: 23 CFR, 1345, Occupant Protection Incentive Grant—Section 405.

OMB Number: 2127-0600.

Affected Public: For Section 405, the public is 50 States, District of Columbia, Puerto Rico, American Samoa, Guam, Northern Marianas and the Virgin Islands.

Type of Request: Extension of a currently approved collection.

Abstract: An occupant protection incentive grant is available to states that can demonstrate compliance with at least four of six criteria. Demonstration of compliance requires submission of copies of relevant seat belt and child passenger protection statutes plan and/or reports on statewide seat belt enforcement and child seat education programs and possibly some traffic court records. In addition, States eligible to receive grant funds must submit a Program Cost Summary (Form 217), allocating section 405 funds to occupant protection programs.

Estimated Annual Burden: 1,736.

Estimated Number of Respondents: 56.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Mary D. Gunnels,
Associate Administrator, Regional Operations and Program Delivery.

[FR Doc. 2012-727 Filed 1-13-12; 8:45 am]

BILLING CODE 4910-59-P